DEPARTMENT OF THE INTERIOR

Office of Surface Mining Reclamation and Enforcement

Notice of Proposed Information Collection for 1029-0051 and 1029-0120

AGENCY: Office of Surface Mining Reclamation and Enforcement.

ACTION: Notice and request for comments.

SUMMARY: In compliance with the Paperwork Reduction Act of 1995, the Office of Surface Mining Reclamation and Enforcement (OSM) is announcing its intention to request approval to continue the collections of information under 30 CFR Part 840, Permanent Program Inspection and Enforcement Procedures, and two Technical Training Program forms for nominations and payment of travel and per diem expenses. These information collection activities were previously approved by the Office of Management and Budget (OMB), and assigned clearance numbers 1029-0051 and -0120, respectively.

DATES: Comments on the proposed information collection activities must be received by November 13, 2006, to be assured of consideration.

ADDRESSES: Comments may be mailed to John A. Trelease, Office of Surface Mining Reclamation and Enforcement, 1951 Constitution Ave., NW., Room 202-SIB, Washington, DC 20240. Comments may also be submitted electronically to jtrelease@osmre.gov.

FOR FURTHER INFORMATION CONTACT: To request a copy of the information collection request, explanatory information and related forms, contact John A. Trelease, at (202) 208-2783 or by e-mail.

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. This notice identifies information collections that OSM will be submitting to OMB for renewed approval. These collections are contained in (1) 30 CFR Part 840, Permanent Program Inspection and Enforcement Procedures (1029-0051); and (2) OSM's Technical Training Program Non-Federal Nomination Form, and Request for Payment of Travel and Per Diem Form (1029-0120). OSM will request a 3-year term of approval for each information collection activity.

Comments are invited on: (1) The need for the collection of informatio for the performance of the functions of the agency; (2) the accuracy of the agency's burden estimates;(3) ways to enhance the quality, utility and clarity of the information collection; and (4) ways to minimize the information collection burden on respondents, such as use of automated means of collection of the information . A summary of the public comments will accompany OSM's submission of the information collection request to OMB.

The following information is provided for each information collection: (1) Title of the information collection; (2) OMB control number; (3) summary of the information collection activity; and (4) frequency of collection, description of the respondents, estimated total annual responses, and the total annual reporting and recordkeeping burden for the collection of information.

Title: Permanent Program Inspection and Enforcement Procedures, 30 CFR Part 840.

OMB Control Number: 1029-0051.

Abstract: This provision requires the regulatory authority to conduct periodic inspections of coal mining activities, and prepare and maintain inspection reports for public review. This information is necessary to meet the requirements of the Surface Mining Control and Reclamation Act of 1977 and its public participation provisions. Public review assures the public that the State is meeting the requirements for the Act and approved State regulatory program.

Bureau Form Number: None.

Frequency of Collection: Once, monthly, quarterly, and annually.

Description of Respondents: State Regualtory Authorities.

Total Annual Responses: 790,486.

Total Annual Burden Hours: 519,572.

Title: Technical Training Program Non-Federal Nomination Form and Request for Payment of Travel and Per Diem Form.

OMB Control Number: 1029-0120.

Summary: The information is used to identify and evaluate the training courses requested by students to enhance their job performance, to calculate the number of classes and instructors needed to complete OSM's technical training mission, and to estimate costs to the training program.

Bureau Form Numbers: OSM 105, OSM 140.

Frequency of Collection: Once.

Description of Respondents: State and Tribal regulatory and reclamation employees and industry personnel.

Total Annual Responses: 1,800.

Total Annual Burden Hours: 150 hours.

Dated: September 5, 2006.
John R. Craynon,
Chief, Division of Regulatory Support.

[FR Doc. 06-7561 Filed 9-8-06; 8:45 am]

BILLING CODE 4310-05-M